DEPARTMENT OF DEFENSE

Office of the Secretary of Defense

[DOD-2007-OS-0193]

Privacy Act of 1974; System of Records

AGENCY: Defense Intelligence Agency, DoD.

ACTION: Notice to add a system of records.

SUMMARY: The Defense Intelligence Agency is proposing to add a system of records to its existing inventory of records systems subject to the Privacy Act of 1974, (5 U.S.C. 552a), as amended.

DATES: The proposed action will be effective on October 9, 2007 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The proposed system report, as required by 5 U.S.C. 552a(r) of the Privacy Act of 1974, as amended, was submitted on August 29, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 30, 2007.
L.M. Bynum,
Alternate OSD Federal Register Liaison Officer, Department of Defense.

LDIA 07-0003

System Name:

Information Technology Support System.

System Location:

Defense Intelligence Analysis Center (DIAC), Bolling AFB, Bldg 6000, Washington, DC 20340-5100.

Categories of Individuals Covered By the System:

DoD intelligence information system (DoDIIS) civilian personnel, military members, and contractor employees.

Categories of Records in the System:

Individual's full name, Social Security Number (SSN) and employee type (civilian, military, or contractor).

Authority for Maintenance of the System:

The National Security Act of 1974, as amended; 5 U.S.C. 301, Departmental Regulations; and E.O. 9397 (SSN).

Purpose(s):

To manage the Enterprise Information Technology (IT) Operations regarding technological and administrative actions, and human performance in the delivery of IT services (i.e., Password Issuance, Software and Hardware Requirements, Incident Reporting and Change, Release to Configuration Mgt Issues) to the DoD intelligence information system community.

Policies and Practices for Storing, Retrieving, Accessing, Retaining, and Disposing of Records in the System:

Storage:

Electronic Storage Media.

Retrievability:

Individual's last name and/or Social Security Number (SSN).

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

Retention and Disposal:

Electronic records are destroyed when the agency determines they are no longer needed for administrative, legal, audit, or other operational purposes.

System Manager(s) Title and Address:

Chief, Customer Relationship Management Division, Defense Intelligence Agency, Bldg 6000, Bolling AFB, Washington, DC 20340-5100.

Notification Procedure:

Individuals seeking to determine whether information about themselves is contained in this system of records should address written inquiries to the DIA Privacy Office (DAN-1A), Defense Intelligence Agency, 200 MacDill Blvd, Washington, DC 20340-5100.

Request should contain the individual's full name, current address, telephone number, and Social Security Number (SSN).

Record Access Procedures:

Individuals seeking access to information about themselves, contained in this system of records, should address written inquiries to the DIA Privacy Official, Defense Intelligence Agency (DAN-1A), 200 MacDill Blvd, Washington, DC 20340-5100. Request should contain the individual's full name, current address, telephone number, and Social Security Number (SSN).

Contesting Record Procedures:

DIA's rules for accessing records, for contesting contents and appealing initial agency determinations are published in DIA Regulation 12-12 “Defense Intelligence Agency Privacy Program”; 32 CFR part 319—Defense Intelligence Agency Privacy Program; or may be obtained from the system manager.

Record Source Categories:

Individual, DIA Security Files, and Human Resources Data Base.

Exemptions Claimed for the System:

None.

[FR Doc. 07-4342 Filed 9-5-07; 8:45 am]

BILLING CODE 5001-06-M